DEPARTMENT OF TRANSPORTATION

Federal Aviation Administration

14 CFR Part 39

[Docket No. FAA-2005-22739; Directorate Identifier 2005-NM-098-AD; Amendment 39-14583; AD 2006-09-12]

RIN 2120-AA64

Airworthiness Directives; Airbus Model A300 B4-600, B4-600R, and F4-600R Series Airplanes, and Model C4-605R Variant F Airplanes (Collectively Called A300-600 Series Airplanes); and Model A310-200 and A310-300 Series Airplanes

AGENCY: Federal Aviation Administration (FAA), Department of Transportation (DOT).

ACTION: Final rule.

SUMMARY: The FAA is adopting a new airworthiness directive (AD) for certain Airbus Model A300-600, A310-200, and A310-300 series airplanes. This AD requires modifying the forward outflow valve of the pressure regulation subsystem. This AD results from a report of accidents resulting in injuries occurring on in-service airplanes when crewmembers forcibly initiated opening of passenger/crew doors against residual pressure, causing the doors to rapidly open. In these accidents, the buildup of residual pressure in the cabin was caused by the blockage of the outflow valve by an insulation blanket. We are issuing this AD to prevent an insulation blanket or other debris from being ingested into and jamming the forward outflow valve of the pressure regulation subsystem, which could lead to the inability to control cabin pressurization and adversely affect continued safe flight of the airplane.

DATES: This AD becomes effective June 8, 2006.

The Director of the Federal Register approved the incorporation by reference of certain publications listed in the AD as of June 8, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this proposed AD.

FOR FURTHER INFORMATION CONTACT: Tom Stafford, Aerospace Engineer, International Branch, ANM-116, Transport Airplane Directorate, FAA, 1601 Lind Avenue, SW., Renton, Washington 98055-4056; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300-600, A310-200, and A310-300 series airplanes. That NPRM was published in the Federal Register on October 20, 2005 (70 FR 61078). That NPRM proposed to require modifying the forward outflow valve of the pressure regulation subsystem.

Comments

We provided the public the opportunity to participate in the development of this AD. We have considered the comments received.

Supportive Comments

Airline Pilots Association International concurs with the intent and proposed language of the NPRM. The National Transportation Safety Board supports the proposed rulemaking.

Request To Include Revised Service Information

Airbus asks that we change the NPRM to refer to Airbus Service Bulletins A300-53-6149 (for Model A300-600 series airplanes) and A310-53-2121 (for Model A310-200 and A310-300 series airplanes), both Revision 01, both dated September 12, 2005, as additional sources of service information for accomplishing the modification. The NPRM refers to the original issue of the service bulletins as the acceptable sources of service information for accomplishing the proposed modification.

We agree with the request. The procedures in Revision 01 of the referenced service bulletins are essentially the same as those in the original issue of the service bulletins. Accordingly, we have revised paragraph (f) of this AD to refer to Revision 01 of the service bulletins as the appropriate source of service information for accomplishing the required modification. We have also added a statement to paragraph (f) that gives credit for modifications accomplished before the effective date of this AD per the original issue of the service bulletins.

Requests To Extend Compliance Time

United Parcel Service (UPS) and American Airlines (AAL) ask that the compliance time for the modification specified in the NPRM be extended.

UPS states that considering the safety improvement provided by AD 2004-14-08, amendment 39-13717 (69 FR 41925, July 13, 2004), referenced in the NPRM in the “Other Relevant Rulemaking” section, the compliance time should be changed from 22 months to the next C-check maintenance visit or 30 months, whichever occurs later. UPS notes that this would allow the subject modification to be done during normal heavy maintenance.

AAL states that compliance periods are based upon, among other factors, an analysis of the purported risk and an assessment of mitigating factors that may alter the scope of risk. AAL adds that it is the largest U.S. operator of the passenger version of the A300-600 airplanes (34 airplanes), and notes that other significant U.S. operators are freight operators which carry only crew on their airplanes. All AAL airplanes were modified soon after identification of the unsafe condition; therefore, a significant portion of the risk was eliminated. AAL states that this mitigating action was not included in the analysis, and if included, the compliance time could be extended and would still achieve an equivalent level of airplane safety. AAL asks that the compliance time be extended to 36 months.

We agree that the compliance time may be extended; we have reconsidered the urgency of the unsafe condition and the amount of work related to the required modification. Our reconsideration includes the data provided by AAL which show that it has accomplished the required modification on all its passenger airplanes, and that other affected airplanes are freight carriers, which operate at a lower risk level than passenger airplanes. We find that extending the compliance time from 22 to 36 months will not adversely affect safety, and, for the majority of affected operators, will allow the required modification to be performed during regularly scheduled maintenance at a base where special equipment and trained maintenance personnel will be available if necessary. We have changed the compliance time for accomplishing the modification required by paragraph (f) of this AD accordingly.

Request To Clarify Applicability

Airbus asks that the applicability in the NPRM be changed for Model A310 series airplanes to match the effectivity of French airworthiness directive F-2005-061 R1, dated May 25, 2005. The French airworthiness directive includes airplanes on which Airbus Modification 3881 has been embodied in production or Airbus Service Bulletin A310-21-2012 has been embodied in service. The commenter states that this clarification in the scope of the applicability would be useful for operators of Model A310-200 and -300 series airplanes.

We agree that the applicability in this AD should be changed to match the effectivity in the French airworthiness directive for Airbus Model A310-200 and -300 series airplanes. Therefore, we have changed paragraph (c) of this AD, for clarification, to specify that the AD applies to Airbus Model A310-200 and -300 series airplanes on which Airbus Modification 3881 has been done in production or Airbus Service Bulletin A310-21-2012 has been done in service.

Request To Reference All Revised Service Bulletins

AAL states that although the NPRM does not indicate compliance is required with a specific revision level of the service bulletin, subsequent revisions of the service bulletin that meet the intent of the NPRM should be included.

We do not agree with the request. Approving revisions of service bulletins that have not yet been released would violate the Office of the Federal Register's (OFR) regulations for approving materials that are incorporated by reference. In general terms, we are required by these OFR regulations either to publish the service document contents as part of the actual AD language, or to submit the service document to the OFR for approval as “referenced” material, in which case we may only refer to such material in the text of an AD. The AD may refer to the service document only if the OFR has approved it for “incorporation by reference.” To allow operators to use later revisions of a referenced document, we must either revise the AD to reference the specific later revisions, or operators may request approval to use later revisions as an alternative method of compliance (AMOC) with this AD. Operators may request approval of an AMOC for this AD under the provisions of paragraph (g)(1) of this AD. We have made no change to the AD in this regard.

Request for Alternative Modification

AAL asks that the alternative modification (installation of a larger outflow valve inlet screen) made to its fleet be included as one of the available compliance options in the final rule. AAL states that it took the initiative to redesign the outflow valve inlet screen on both the forward and aft outflow valves. AAL notes that the original screen can be completely covered with the single, standard-size 22-inch-wide insulation blanket commonly found in close proximity to the valve. A cylindrical inlet screen was added between the original inlet screen and the outflow valve; the new design adds over 250 percent to the surface area and adds a critical third dimension to the screen shape. The increase in surface area ensures that if an insulation blanket were to become entangled in the outflow valve screen, the screen would be large enough to maintain adequate flow to prevent the buildup of cabin pressure.

We do not agree with the request; the alternative modification is unique to AAL and therefore should not be included in the final rule. An AMOC is the appropriate avenue for approval of that method of compliance. In light of the above, we consider the requirements in this AD applicable to AAL airplanes until AAL obtains approval for an AMOC for this AD under the provisions of paragraph (g)(1) of this AD. No change to the AD is necessary in this regard.

Request To Increase Work Hours

AAL asks that the work hours specified to accomplish the modification be increased, and adds that the referenced service information shows the work hours necessary as 5.5 for each airplane, using two kits, but the NPRM estimates only 3 to 4 work hours per airplane.

We do not agree to increase the work hours. The estimate of 5.5 work hours specified in the service information includes time for gaining access and closing up. The cost analysis in AD rulemaking actions, however, typically does not include costs such as the time required to gain access and close up, time necessary for planning, or time necessitated by other administrative actions. Those incidental costs may vary significantly among operators and are almost impossible to calculate. We recognize that, in doing the actions required by an AD, operators may incur incidental costs in addition to the direct costs. However, the estimate of 3 to 4 work hours, as specified in this AD, represents the time necessary to perform only the actions actually required by this AD. We have made no change to the AD in this regard.

Typographical Error

AAL and UPS note that the service bulletin reference identified in the NPRM for Airbus Model A300-600 series airplanes is incorrect. The NPRM referenced Airbus Service Bulletin A300-63-6149, but the correct reference is Airbus Service Bulletin A300-53-6149; the service bulletin reference has been corrected throughout this AD.

Conclusion

We have carefully reviewed the available data, including the comments received, and determined that air safety and the public interest require adopting the AD with the changes described previously. These changes will neither increase the economic burden on any operator nor increase the scope of the AD.

Costs of Compliance

This AD affects about 169 airplanes of U.S. registry. The modification takes between 3 and 4 work hours per airplane, depending on airplane configuration, at an average labor rate of $65 per work hour. Required parts cost ranges between $120 and $420 per kit (2 kits per airplane). Based on these figures, the estimated cost of the modification required by this AD for U.S. operators ranges between $73,515 and $185,900 or between $435 and $1,100 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-09-12 Airbus: Amendment 39-14583. Docket No. FAA-2005-22739; Directorate Identifier 2005-NM-098-AD.

Effective Date

(a) This AD becomes effective June 8, 2006.

Affected ADs

(b) None.

Applicability

(c) This AD applies to Airbus Model A300 B4-601, B4-603, B4-620, B4-622, B4-605R, B4-622R, F4-605R, F4-622R, and A300 C4-605R Variant F airplanes (collectively called A300-600 series airplanes); and Model A310-203, -204, -221, -222, -304, -322, -324, and -325 airplanes on which Airbus Modification 3881 has been done in production or Airbus Service Bulletin A310-21-2012 has been done in service; certificated in any category; excluding airplanes on which Airbus Modification 12921 has been done in production.

Unsafe Condition

(d) This AD results from a report of accidents resulting in injuries occurring on in-service airplanes when crewmembers forcibly initiated opening of passenger/crew doors against residual pressure, causing the doors to rapidly open. In these accidents, the buildup of residual pressure in the cabin was caused by the blockage of the outflow valve by an insulation blanket. We are issuing this AD to prevent an insulation blanket or other debris from being ingested into and jamming the forward outflow valve of the pressure regulation subsystem, which could lead to the inability to control cabin pressurization and adversely affect continued safe flight of the airplane.

Compliance

(e) You are responsible for having the actions required by this AD performed within the compliance times specified, unless the actions have already been done.

Modification

(f) Within 36 months after the effective date of this AD: Modify the forward outflow valve of the pressure regulation subsystem by doing all the actions in accordance with the Accomplishment Instructions of Airbus Service Bulletin A300-53-6149 (for Model A300-600 series airplanes) or A310-53-2121 (for Model A310-200 and A310-300 series airplanes) both Revision 01 dated September 12, 2005, as applicable. Accomplishing the modification before the effective date of this AD, in accordance with Airbus Service Bulletin A300-53-6149 or A310-53-2121, both dated February 25, 2005, as applicable, is acceptable for compliance with the modification in this paragraph.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(h) French airworthiness directive F-2005-061 R1, dated May 25, 2005, also addresses the subject of this AD.

Material Incorporated by Reference

(i) You must use Airbus Service Bulletin A300-53-6149, Revision 01, dated September 12, 2005; or Airbus Service Bulletin A310-53-2121, Revision 01, dated September 12, 2005; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on April 26, 2006.
Ali Bahrami,
Manager, Transport Airplane Directorate, Aircraft Certification Service.

[FR Doc. 06-4135 Filed 5-3-06; 8:45 am]

BILLING CODE 4910-13-P